DEPARTMENT OF HOMELAND SECURITY

[Docket No. DHS-2004-0005]

Revised Privacy Impact Assessment and Privacy Policy; US-VISIT Program

AGENCY: Department of Homeland Security.

ACTION: Notice; Privacy Impact Assessment and Privacy Policy.

SUMMARY: The Department of Homeland Security (Department) intends to modify the United States Visitor and Immigrant Status Indicator Technology Program (US-VISIT) to expand coverage to include Visa Waiver Program entrants into this entry and exit system and to include the 50 busiest land ports of entry, and to modify the business process by which the Department shares information with other Federal law enforcement agencies. Accordingly, the original privacy impact assessment (PIA) for US-VISIT, which was published in the Federal Register on January 16, 2004, has been amended to reflect these changes in accordance with the E-Government Act of 2002, and is being made available to the public by this notice and in conjunction with the Interim Final Rule of August 31, 2004, United States Visitor and Immigrant Status Indicator Technology Program (“US-VISIT”) Authority to Collect Biometric Data From Additional Travelers and Expansion to the 50 Most Highly Trafficked Land Border Ports of Entry, published at 69 FR 53318.

ADDRESSES: Written comments about this revised PIA for the US-VISIT Program, Increment 2, may be submitted to the DHS Privacy Office, Attn: US-VISIT PIA, Increment 2, U.S. Department of Homeland Security, Washington, DC 20528, fax (202) 298-5201, or e-mail at privacy@dhs.gov. If submitting comments by e-mail, please include the words “US-VISIT PIA” in the subject line.

Additional comments may be made through the e-docketing system by referencing docket number [DHS-2004-0005] at http://docket.epa.gov/edkfed/index.jsp.

FOR FURTHER INFORMATION CONTACT: Steve Yonkers, Privacy Officer, US-VISIT, Border and Transportation Security, U.S. Department of Homeland Security, Washington, DC 20528, telephone (202) 298-5200, fax (202) 298-5201, e-mail usvisitprivacy@dhs.gov.

Dated: September 14, 2004.
Nuala O'Connor Kelly,
Chief Privacy Officer.

BILLING CODE 4910-15-P

[FR Doc. 04-21280 Filed 9-22-04; 8:45 am]

BILLING CODE 4910-15-C